DEPARTMENT OF TRANSPORTATION

Federal Aviation Administration

14 CFR Part 97

[Docket No. 30541 Amdt. No. 3210]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective March 23, 2007. The compliance date for each SIAP and/or Weather Takeoff Minimums is specified in the amendatory provisions.

The incorporation by reference of certain publications listed in the regulations is approved by the Director of the Federal Register as of March 23, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on March 9, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 12 APRIL 2007

Atlanta, GA, Hartsfield-Jackson Atlanta Intl, ILS PRM RWY 9R, Orig-A, ILS PRM RWY 9R (CAT II), ILS PRM RWY 9R (CAT III), (Simultaneous Close Parallel)

Atlanta, GA, Hartsfield-Jackson Atlanta Intl, ILS PRM RWY 8L, Orig-A, ILS PRM RWY 8L (CAT II), ILS PRM RWY 8L (CAT III), Simultaneous Close Parallel)

Jackson, WY, Jackson Hole, RNAV (GPS) Y RWY 19, Orig-A

Effective 10 MAY 2007

Fayetteville/Springdale/Rogers, AR, Northwest Arkansas Regional, AR, RNAV (GPS) RWY 16, Amdt 2

Fayetteville/Springdale/Rogers, AR, Northwest Arkansas Regional, AR, ILS OR LOC/DME RWY 16, Amdt 2

Malvern, AR, Malvern Muni, RNAV (GPS) RWY 22, Orig

Malvern, AR, Malvern Muni, NDB OR GPS RWY 22, Amdt 1A, CANCELLED

Malvern, AR, Malvern Muni, Takeoff Minimums and Textual DP, Orig

Rogers, AR, Rogers Muni-Carter Field, RNAV (GPS) RWY 20, Amdt 1

Stuttgart, AR, Stuttgart Muni, RNAV (GPS) RWY 18, Amdt 1

Stuttgart, AR, Stuttgart Muni, RNAV (GPS) RWY 27, Amdt 1

Stuttgart, AR, Stuttgart Muni, Takeoff Minimums and Textual DP, Orig

Nucla, CO, Hopkins Field, RNAV (GPS)-A, Orig

Nucla, CO, Hopkins Field, Takeoff Minimums and Textual DP, Orig

Daytona Beach, FL, Daytona Beach Intl, RNAV (GPS) RWY 25L, Amdt 1

Daytona Beach, FL, Daytona Beach Intl, RNAV (GPS) RWY 25R, Amdt 2

Orlando, FL, Kissimmee Gateway, NDB RWY 15, Amdt 1

Punta Gorda, FL, Charlotte County, Takeoff Minimums and Obstacle DP, Orig

Tampa, FL, Peter O. Knight, RNAV (GPS) RWY 35, Orig

Tampa, FL, Tampa Intl, RADAR-1, Amdt 12A, CANCELLED

Hampton, GA, Clayton County-Tara Field, RNAV (GPS) RWY 6, Orig

Hampton, GA, Clayton County-Tara Field, RNAV (GPS) RWY 24, Orig

Hampton, GA, Clayton County-Tara Field, GPS RWY 24, Amdt 1, CANCELLED

Hampton, GA, Clayton County-Tara Field, Takeoff Minimums and Textual DP, Orig

Moultrie, GA, Moultrie Muni, RNAV (GPS) RWY 4, Orig

Moultrie, GA, Moultrie Muni, RNAV (GPS) RWY 22, Orig

Moultrie, GA, Moultrie Muni, GPS RWY 4, Orig, CANCELLED

Moultrie, GA, Moultrie Muni, GPS RWY 22, Orig, CANCELLED

Cedar Rapids, IA, The Eastern Iowa, RNAV (GPS) RWY 9, Amdt 1

Cedar Rapids, IA, The Eastern Iowa, RNAV (GPS) RWY 27, Amdt 1

Cedar Rapids, IA, The Eastern Iowa, ILS OR LOC RWY 9, Amdt 17

Cedar Rapids, IA, The Eastern Iowa, ILS OR LOC RWY 27, Amdt 6

Cedar Rapids, IA, The Eastern Iowa, VOR RWY 27, Amdt 13

Monticello, IA, Monticello Regional, NDB-A, Amdt 4, CANCELLED

Alexandria, LA, Esler Regional, RNAV (GPS) RWY 8, Orig

Alexandria, LA, Esler Regional, RNAV (GPS) RWY 26, Orig

Alexandria, LA, Esler Regional, NDB OR GPS RWY 26, Amdt 8, CANCELLED

Bedford, MA, Laurence G. Hanscom Field, RNAV (GPS) RWY 11, Orig

Leonardtown, MD, St. Mary's County Regional, RNAV (GPS) RWY 11, Orig

Leonardtown, MD, St. Mary's County Regional, GPS RWY 11, Amdt 1A, CANCELLED

Adrian, MI, Lenawee County, RNAV (GPS) RWY 5, Orig

Adrian, MI, Lenawee County, RNAV (GPS) RWY 23, Orig

Adrian, MI, Lenawee County, GPS RWY 5, Amdt 1, CANCELLED

Adrian, MI, Lenawee County, GPS RWY 23, Orig, CANCELLED

Adrian, MI, Lenawee County, Takeoff Minimums & Textual DPs, Orig

Neosho, MO, Neosho Hugh Robinson, RNAV (GPS) RWY 1, Orig

Neosho, MO, Neosho Hugh Robinson, RNAV (GPS) RWY 19, Orig

Neosho, MO, Neosho Hugh Robinson, VOR-A, Amdt 7

Neosho, MO, Neosho Hugh Robinson, VOR/DME RNAV OR GPS RWY 19, Amdt 3B, CANCELLED

Neosho, MO, Neosho Hugh Robinson, Takeoff Minimums and Obstacle DP, Orig

Hattiesburg, MS, Hattiesburg Bobby L. Chain Muni, RNAV (GPS) Y RWY 13, Amdt 1

Hattiesburg, MS, Hattiesburg Bobby L. Chain Muni, RNAV (GPS) Z RWY 13, Orig

Hattiesburg, MS, Hattiesburg Bobby L. Chain Muni, Takeoff Minimums and Textual DP, Orig

Lexington, NE, Jim Kelly Field, RNAV (GPS) RWY 14, Amdt 1

Lexington, NE, Jim Kelly Field, RNAV (GPS) RWY 32, Amdt 1

Lexington, NE, Jim Kelly Field, Takeoff Minimums and Textual DP, Amdt 2

O'Neill, NE, The O'Neill Muni-John L Baker Field, RNAV (GPS) RWY 13, Amdt 1

O'Neill, NE, The O'Neill Muni-John L Baker Field, RNAV (GPS) RWY 31, Amdt 1

Atlantic City, NJ, Atlantic City Muni/Bader Field, VOR OR GPS-A, Amdt 4A, CANCELLED

Atlantic City, NJ, Atlantic City Muni/Bader Field, VOR OR GPS RWY 11, Amdt 4, CANCELLED

Atlantic City, NJ, Atlantic City Muni/Bader Field, Takeoff Minimums and Obstacle DP, Amdt 3, CANCELLED

Lincoln Park, NJ, Lincoln Park, RNAV (GPS) RWY 1, Orig

Lincoln Park, NJ, Lincoln Park, RNAV (GPS) RWY 19, Orig

Lincoln Park, NJ, Lincoln Park, NDB RWY 1, Amdt 3

Lincoln Park, NJ, Lincoln Park, GPS RWY 19, Orig, CANCELLED

Albuquerque, NM, Albuquerque INTL Sunport, NDB RWY 35, Amdt 7C, CANCELLED

Plattsburgh, NY, Plattsburgh Intl, RNAV (GPS) RWY 17, Amdt 1

Plattsburgh, NY, Plattsburgh Intl, RNAV (GPS) RWY 35, Amdt 1

Plattsburgh, NY, Plattsburgh Intl, Takeoff Minimums and Textual DP, Orig

Shirley, NY, Brookhaven, Takeoff Minimums and Textual DP, Orig

Edenton, NC, Northeastern Regional, RNAV (GPS) RWY 1, Amdt 1

Edenton, NC, Northeastern Regional, RNAV (GPS) RWY 5, Orig, CANCELLED

Edenton, NC, Northeastern Regional, RNAV (GPS) RWY 19, Amdt 1

Edenton, NC, Northeastern Regional, NDB RWY 5, Amdt 5, CANCELLED

Weatherford, OK, Thomas P. Stafford, RNAV (GPS) RWY 17, Orig

Weatherford, OK, Thomas P. Stafford, RNAV (GPS) RWY 35, Orig

Weatherford, OK, Thomas P. Stafford, GPS RWY 17, Orig, CANCELLED

Weatherford, OK, Thomas P. Stafford, GPS RWY 35, Amdt 1, CANCELLED

Weatherford, OK, Thomas P. Stafford, Takeoff Minimums and Textual DP, Amdt 1

Philadelphia, PA, Philadelphia Intl, RNAV (GPS) RWY 26, Orig-A

Block Island, RI, Block Island State, RNAV (GPS) RWY 28, Amdt 1

Bellingham, WA, Bellingham Intl, ILS OR LOC RWY 16, Amdt 5

Bellingham, WA, Bellingham Intl, RNAV (GPS) RWY 16, Amdt 1

Rice Lake, WI, Rice Lake Regional-Carl's Field, VOR RWY 1, Amdt 1

Rice Lake, WI, Rice Lake Regional-Carl's Field, VOR/DME RWY 19, Amdt 1

[FR Doc. E7-5099 Filed 3-22-07; 8:45 am]

BILLING CODE 4910-13-P